DEPARTMENT OF AGRICULTURE

Food Safety and Inspection Service

[Docket No. 02-041N]

Summit on Listeria Monocytogenes

AGENCY: Food Safety and Inspection Service, USDA.

ACTION: Notice of public meeting.

SUMMARY: The Food Safety and Inspection Service (FSIS) is announcing that it will hold a one day summit on Listeria monocytogenes on November 18, 2002. The summit will provide a forum for experts from government, academia, industry and consumer organizations to discuss current government thinking and activities regarding L. monocytogenes.

DATES: The public meeting is scheduled for Monday, November 18, 2002. The meeting will be held from 8:30 a.m. to 5:30 p.m.

ADDRESSES: The public meeting will be held at the Holiday Inn, 550 C Street, SW., Washington, DC. A tentative agenda is available in the FSIS Docket Room and on the Internet at http://www.fsis.usda.gov. FSIS welcomes comments on the topics to be discussed at the public meeting. Please send an original to the FSIS Docket Room, Reference Docket #02-041N, U.S. Department of Agriculture, Food Safety and Inspection Service, Room 102 Cotton Annex, 300 12th Street, SW., Washington, DC 20250-3700. All comments and the official transcript of the meeting, when they become available, will be kept in the FSIS Docket Room at the address provided above.

FOR FURTHER INFORMATION CONTACT: Karen Hulebak at (202) 720-2644. Registration for the meeting will be onsite. FSIS encourages attendees to pre-register as soon as possible by contacting Ms. Mary Harris of the FSIS Planning Staff at (202) 690-6497 or by e-mail to mary.harris@fsis.usda.gov. If a sign language interpreter or other special accommodations are necessary, contact Ms. Harris at the above numbers no later than November 15, 2002.

SUPPLEMENTARY INFORMATION:

Background

On February 27, 2001, FSIS published a proposed rule “Performance Standards for the Production of Processed Meat and Poultry Products” (66 FR 12590). In that document, the Agency proposed testing requirements intended to reduce the incidence of Listeria monocytogenes in ready-to-eat (RTE) meat and poultry products, as well as food safety performance standards applicable to all RTE and partially heat-treated meat and poultry products. The Agency received numerous comments on several aspects of the proposed rule.

Public Meeting

The Agency is providing a forum for experts from government, industry, academia, and consumer organizations to discuss current research and information on the best methods to identify and control L. monocytogenes in the processing environment and reduce the incidence in all RTE meat and poultry products.

The meeting will consist of sessions on Listeria risk assessment, risk management, and risk communication. The FSIS moderators for the sessions on risk assessment, management, and communication will provide an overview of current Agency activities. Representatives from industry, government, and academia will discuss various issues related to assessing, managing, and communicating the risks associated with Listeria monocytogenes. Following these three sessions, stakeholders from industry, consumer groups, and academia will provide their perspectives on the current and proposed regulatory and industry practices and research needs. The Agency will invite comment and discussion at each of the sessions.

FSIS has developed a list of questions for which it seeks input.

Regarding risk assessment:

• How can risk assessment be used to improve HACCP (e.g., the use of food safety objectives) as it relates to L. monocytogenes?

• What approaches might be employed to collect data on the presence or level of L. monocytogenes on a RTE product, or on possible correlations between L. monocytogenes in the environment and L. monocytogenes in product produced in that environment. Such data are critical for risk assessments in order to inform decision makers and other stakeholders in the development of effective controls.

• What is the nature and level of peer-review that is necessary to obtain a scientifically sound assessment upon which to base regulatory decisions? When in the process should FSIS seek such input?

Regarding risk management:

• What is the relative role of environmental and product testing in detecting and preventing L. monocytogenes contamination? What are elements of an effective testing program?

• For processing interventions, what are the different types, the level of pathogen reduction achieved by each, and the interventions best suited for small and very small establishments?

Regarding risk communication:

• Through what channels and tools can FSIS most effectively disseminate food safety advice to those at particular risk of developing listeriosis? Are people listening to the messages out there now?

• What role does the food industry see itself playing in communicating risks associated with RTE foods to the public?

• When should FSIS issue a public health alert in an outbreak situation? Should it do so even if the cause of the outbreak has not yet been determined so that consumers—particularly those at high risk—can take precautions?

Additional Public Notification

Public involvement in all segments of rulemaking and policy development is important. Consequently, in an effort to better ensure that minorities, women, and persons with disabilities are aware of this notice and informed about the mechanism for providing their comments, FSIS will announce it and make copies of this Federal Register publication available through the FSIS Constituent Update. FSIS provides a weekly FSIS Constituent Update, which is communicated via Listserv, a free e-mail subscription service. In addition, the update is available on line through the Internet at http://www.fsis.usda.gov. The update is used to provide information regarding FSIS policies, procedures, regulations, Federal Register notices, FSIS public meetings, recalls, and any other types of information that could affect or would be of interest to our constituents and stakeholders. The constituent Listserv consists of industry, trade, and farm groups, consumer interest groups, allied health professionals, scientific professionals, and other individuals who have requested to be included. Through the Listserv and web page, FSIS is able to provide information to a much broader, more diverse audience.

For more information, contact the Congressional and Public Affairs Office at (202) 720-9113. To be added to the free e-mail subscription service (Listserv), go to the “Constituent Update” page on the FSIS Web site at http://www.fsis.usda.gov/oa/update.htm. Click on the “Subscribe to the Constituent Update Listserv” link, then fill out and submit the form.

Done in Washington, DC, on November 8, 2002.
Dr. Garry L. McKee,
Administrator.

[FR Doc. 02-28915 Filed 11-13-02; 8:45 am]

BILLING CODE 3410-DM-P